DEPARTMENT OF LABOR

Employment and Training Administration

[TA-W-64,327; TA-W-64,327A; TA-W-64,327B

Jatco USA, Inc., Remanufacturing Department, Including On-Site Workers of Kelly Services, Inc. and Express Personnel, Wixom, MI; Jatco USA, Inc., Quality Investigations Department, Including On-Site Workers of Kelly Services, Inc. and Express Personnel, Wixom, MI; Jatco USA, Inc., Administrative Department, Including On-Site Workers of Kelly Services, Inc. and Express Personnel, Wixom, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 18, 2008, applicable to workers of Jatco USA, Inc., Remanufacturing Department, Wixom, Michigan (TA-W-64,327); Jatco USA, Inc., Quality Investigations Department, Wixom, Michigan (TA-W-64,327A); and Jatco USA, Inc., Administrative Department, Wixom, Michigan (TA-W-64,327B). The notice will be published in the Federal Register soon.

The workers were engaged in the production of remanufactured automatic transmissions. Workers also inspected the remanufactured automatic transmissions and provided administrative support for the production of remanufactured automatic transmissions.

At the request of the company official, the Department reviewed the certification for workers of the subject firm.

Information shows that workers leased from Kelly Services, Inc. and Express Personnel were employed on-site at the Remanufacturing Department, Quality Investigations Department and Administrative Department at the Wixom location of Jatco USA, Inc. The Department has determined that these workers were sufficiently under the control of Jatco USA, Inc., Remanufacturing Department, Wixom, Michigan (TA-W-64,327); Jatco USA, Inc., Quality Investigations Department, Wixom, Michigan (TA-W-64,327A); and Jatco USA, Inc., Administrative Department, Wixom, Michigan (TA-W-64,327B).

Based on these findings, the Department is amending this certification to include leased workers from Kelly Services, Inc. and Express Personnel working on-site at Jatco USA, Inc., Remanufacturing Department, Wixom, Michigan (TA-W-64,327); Jatco USA, Inc., Quality Investigations Department, Wixom, Michigan (TA-W-64,327A); and Jatco USA, Inc., Administrative Department, Wixom, Michigan (TA-W-64,327B) to be considered leased workers.

The intent of the Department's certification is to include all workers employed at Jatco USA, Inc., Remanufacturing Department, Wixom, Michigan (TA-W-64,327); Jatco USA, Inc., Quality Investigations Department, Wixom, Michigan (TA-W-64,327A); and Jatco USA, Inc., Administrative Department, Wixom, Michigan (TA-W-64,327B) who were adversely affected by a shift in production of remanufactured automatic transmissions to Mexico. The amended notice applicable to TA-W-64,327 is hereby issued as follows:

All workers of Jatco USA, Inc., Remanufacturing Department, including on-site leased workers of Kelly Services, Inc. and Express Personnel, Wixom, Michigan (TA-W-64,327); Jatco USA, Inc., Quality Investigations Department, including on-site leased workers of Kelly Services, Inc. and Express Personnel, Wixom, Michigan (TA-W-64,327A); and Jatco USA, Inc., Administrative Department, including on-site leased workers of Kelly Services, Inc. and Express Personnel, Wixom, Michigan (TA-W-64,327B), who became totally or partially separated from employment on or after October 30, 2007, through November 18, 2010, are eligible to apply for adjustment assistance under Section 223 of the Trade Act of 1974, and are also eligible to apply for alternative trade adjustment assistance under Section 246 of the Trade Act of 1974.

Signed at Washington, DC this 8th day of December 2008.
Elliott S. Kushner,
Certifying Officer, Division of Trade Adjustment Assistance.

[FR Doc. E8-29940 Filed 12-17-08; 8:45 am]

BILLING CODE 4510-FN-P